DEPARTMENT OF THE TREASURY

Office of Foreign Assets Control

Identification and Blocking of Aircraft Pursuant to Executive Order 13224

AGENCY: Office of Foreign Assets Control, Treasury Department.

ACTION: Notice.

SUMMARY: The Treasury Department's Office of Foreign Assets Control (“OFAC”) is publishing identifying information relating to forty-seven (47) aircraft detailed below, which OFAC has determined to be property in which Mahan Air or Yas Air, persons designated as Specially Designated Global Terrorists (“SDGTs”) pursuant to Executive Order 13224 of September 23, 2001, “Blocking Property and Prohibiting Transactions With Persons Who Commit, Threaten To Commit, or Support Terrorism” (the “Order”), have an interest, and which therefore are blocked pursuant to the Order.

DATES: The identification pursuant to the Order by the Director of OFAC of the 47 aircraft identified in this notice was publicly announced, and identifying information relating to the aircraft was added to OFAC's List of Specially Designated Nationals and Blocked Persons (“SDN List”), on September 19, 2012.

FOR FURTHER INFORMATION CONTACT: Assistant Director, Sanctions Compliance and Evaluation, Office of Foreign Assets Control, Department of the Treasury, Washington, DC 20220, Tel.: 202/622-2490.

SUPPLEMENTARY INFORMATION:

Electronic and Facsimile Availability

The SDN List and additional information concerning OFAC are available from OFAC's Web site (www.treas.gov/ofac). Certain general information regarding sanctions programs administered by OFAC is available via facsimile through a 24-hour fax-on-demand service, Tel.: 202/622-0077.

Background

On September 23, 2001, the President issued Executive Order 13224 (the “Order”) pursuant to the International Emergency Economic Powers Act, 50 U.S.C. 1701-1706, and the United Nations Participation Act of 1945, 22 U.S.C. 287c. In the Order, the President declared a national emergency to address grave acts of terrorism and threats of terrorism committed by foreign terrorists, including the September 11, 2001 terrorist attacks in New York, Pennsylvania, and at the Pentagon. The Order imposes economic sanctions on persons who have committed, pose a significant risk of committing, or support acts of terrorism. The President identified in the Annex to the Order, as amended by Executive Order 13268 of July 2, 2002, 13 individuals and 16 entities as subject to the economic sanctions. The Order was further amended by Executive Order 13284 of January 23, 2003, to reflect the creation of the Department of Homeland Security.

Section 1 of the Order blocks, with certain exceptions, all property and interests in property that are in or hereafter come within the United States or the possession or control of United States persons, of, inter alia, persons determined by the Secretary of the Treasury, in consultation with the Departments of State, Homeland Security and Justice: to be owned or controlled by, or to act for or on behalf of those persons listed in the Annex to the Order or those persons determined to be subject to subsection 1(b), 1(c), or 1(d)(i) of the Order; to assist in, sponsor, or provide financial, material, or technological support for, or financial or other services to or in support of, acts of terrorism or those persons listed in the Annex to the Order or determined to be subject to the Order; or to be otherwise associated with those persons listed in the Annex to the Order or those persons determined to be subject to subsection 1(b), 1(c), or 1(d)(i) of the Order. The Global Terrorism Sanctions Regulations, 31 CFR part 594, implement the Order and delegate to the Director of OFAC the Secretary of the Treasury's authorities pursuant thereto. 31 CFR 594.802.

On October 12, 2011, the Director of OFAC, in consultation with the Secretary of State, the Attorney General, and the Secretary of Homeland Security, designated Mahan Air as an SDGT pursuant to the Order. On March 27, 2012, the Director of OFAC, in consultation with the Secretary of State, the Attorney General, and the Secretary of Homeland Security, designated Yas Air as an SDGT pursuant to the Order.

On September 19, 2012, the Director of OFAC, identified the 47 aircraft, whose identifying information is detailed below, as property in which SDGTs Mahan Air or Yas Air have an interest, which therefore is blocked pursuant to the Order.

The listing for these aircraft is as follows:

Aircraft

1. EK-30064; Aircraft Construction Number (also called L/N or S/N or F/N) 464; Aircraft Manufacture Date 17 May 1988; Aircraft Model A300B4-605R; Aircraft Operator MAHAN AIR (aircraft) [SDGT] Linked To: MAHAN AIR.

2. EP-GOL; Aircraft Construction Number (also called L/N or S/N or F/N) 8305; Aircraft Manufacture Date 1991; Aircraft Model IL-76TD; Aircraft Operator YAS AIR; Aircraft Manufacturer's Serial Number (MSN) 1013409297 (aircraft) [SDGT] Linked To: YAS AIR.

3. EP-GOM; Aircraft Construction Number (also called L/N or S/N or F/N) 8401; Aircraft Manufacture Date 1992; Aircraft Model IL76-TD; Aircraft Operator YAS AIR; Aircraft Manufacturer's Serial Number (MSN) 1023409321 (aircraft) [SDGT] Linked To: YAS AIR.

4. EP-GOQ; Aircraft Construction Number (also called L/N or S/N or F/N) 2006; Aircraft Manufacture Date 1998; Aircraft Model An-74T-200; Aircraft Operator YAS AIR; Aircraft Manufacturer's Serial Number (MSN) 365470991032 (aircraft) [SDGT] Linked To: YAS AIR.

5. EP-GOX; Aircraft Construction Number (also called L/N or S/N or F/N) 2101; Aircraft Manufacture Date 1998; Aircraft Model An-74T-200; Aircraft Operator YAS AIR; Aircraft Manufacturer's Serial Number (MSN) 3654701211048 (aircraft) [SDGT] Linked To: YAS AIR.

6. EP-GOY; Aircraft Construction Number (also called L/N or S/N or F/N) 2105; Aircraft Manufacture Date 2002; Aircraft Model An-74TK-200; Aircraft Operator YAS AIR; Aircraft Manufacturer's Serial Number (MSN) 3654701211058 (aircraft) [SDGT] Linked To: YAS AIR.

7. EP-MHA; Aircraft Construction Number (also called L/N or S/N or F/N) 160; Aircraft Manufacture Date 17 Sep 1981; Aircraft Model A300B2K-3C; Aircraft Operator MAHAN AIR (aircraft) [SDGT] Linked To: MAHAN AIR.

8. EP-MHF; Aircraft Construction Number (also called L/N or S/N or F/N) 55; Aircraft Manufacture Date 01 Mar 1978; Aircraft Model A300B4-103; Aircraft Operator MAHAN AIR (aircraft) [SDGT] Linked To: MAHAN AIR.

9. EP-MHG; Aircraft Construction Number (also called L/N or S/N or F/N) 204; Aircraft Manufacture Date 29 Jul 1982; Aircraft Model A300B4-203; Aircraft Operator MAHAN AIR (aircraft) [SDGT] Linked To: MAHAN AIR.

10. EP-MHJ; Aircraft Construction Number (also called L/N or S/N or F/N) 857; Aircraft Manufacture Date 18 Jun 1998; Aircraft Model A320-232; Aircraft Operator MAHAN AIR (aircraft) [SDGT] Linked To: MAHAN AIR.

11. EP-MHL; Aircraft Construction Number (also called L/N or S/N or F/N) 175; Aircraft Manufacture Date 02 Feb 1982; Aircraft Model A300B4-203; Aircraft Operator MAHAN AIR (aircraft) [SDGT] Linked To: MAHAN AIR.

12. EP-MHM; Aircraft Construction Number (also called L/N or S/N or F/N) 90; Aircraft Manufacture Date 05 Nov 1980; Aircraft Model A300B2K-3C; Aircraft Operator MAHAN AIR (aircraft) [SDGT] Linked To: MAHAN AIR.

13. EP-MHO; Aircraft Construction Number (also called L/N or S/N or F/N) 488; Aircraft Manufacture Date 13 Jan 1989; Aircraft Model A310-304; Aircraft Operator MAHAN AIR (aircraft) [SDGT] Linked To: MAHAN AIR.

14. EP-MHP; Aircraft Construction Number (also called L/N or S/N or F/N) 244; Aircraft Manufacture Date 09 Mar 1983; Aircraft Model A300B2K-3C; Aircraft Operator MAHAN AIR (aircraft) [SDGT] Linked To: MAHAN AIR.

15. EP-MNA; Aircraft Construction Number (also called L/N or S/N or F/N) 811; Aircraft Manufacture Date 18 Feb 1993; Aircraft Model B.747-422; Aircraft Operator MAHAN AIR; Aircraft Manufacturer's Serial Number (MSN) 24383 (aircraft) [SDGT] Linked To: MAHAN AIR.

16. EP-MNB; Aircraft Construction Number (also called L/N or S/N or F/N) 740; Aircraft Manufacture Date 20 Jul 1989; Aircraft Model B.747-422; Aircraft Operator MAHAN AIR; Aircraft Manufacturer's Serial Number (MSN) 24363 (aircraft) [SDGT] Linked To: MAHAN AIR.

17. EP-MNC; Aircraft Construction Number (also called L/N or S/N or F/N) 973; Aircraft Manufacture Date 12 Apr 1993; Aircraft Model B.747-422; Aircraft Operator MAHAN AIR; Aircraft Manufacturer's Serial Number (MSN) 26879 (aircraft) [SDGT] Linked To: MAHAN AIR.

18. EP-MND; Aircraft Construction Number (also called L/N or S/N or F/N) 632; Aircraft Manufacture Date 23 Jan 1986; Aircraft Model B747-3B3; Aircraft Operator MAHAN AIR; Aircraft Manufacturer's Serial Number (MSN) 23413 (aircraft) [SDGT] Linked To: MAHAN AIR.

19. EP-MNE; Aircraft Construction Number (also called L/N or S/N or F/N) 641; Aircraft Manufacture Date 14 Apr 1986; Aircraft Model B747-3B3; Aircraft Operator MAHAN AIR; Aircraft Manufacturer's Serial Number (MSN) 23480 (aircraft) [SDGT] Linked To: MAHAN AIR.

20. EP-MNG; Aircraft Construction Number (also called L/N or S/N or F/N) 401; Aircraft Manufacture Date 02 Feb 1987; Aircraft Model A300B4-603; Aircraft Operator MAHAN AIR (aircraft) [SDGT] Linked To: MAHAN AIR.

21. EP-MNH; Aircraft Construction Number (also called L/N or S/N or F/N) 405; Aircraft Manufacture Date 03 Feb 1987; Aircraft Model A300B4-603; Aircraft Operator MAHAN AIR (aircraft) [SDGT] Linked To: MAHAN AIR.

22. EP-MNI; Aircraft Construction Number (also called L/N or S/N or F/N) 408; Aircraft Manufacture Date 23 Feb 1987; Aircraft Model A300B4-603; Aircraft Operator MAHAN AIR (aircraft) [SDGT] Linked To: MAHAN AIR.

23. EP-MNJ; Aircraft Construction Number (also called L/N or S/N or F/N) 380; Aircraft Manufacture Date 31 Dec 1986; Aircraft Model A300B4-603; Aircraft Operator MAHAN AIR (aircraft) [SDGT] Linked To: MAHAN AIR.

24. EP-MNK; Aircraft Construction Number (also called L/N or S/N or F/N) 618; Aircraft Manufacture Date 04 Sep 1991; Aircraft Model A300B4-603; Aircraft Operator MAHAN AIR (aircraft) [SDGT] Linked To: MAHAN AIR.

25. EP-MNL; Aircraft Construction Number (also called L/N or S/N or F/N) 623; Aircraft Manufacture Date 23 Oct 1991; Aircraft Model A300B4-603; Aircraft Operator MAHAN AIR (aircraft) [SDGT] Linked To: MAHAN AIR.

26. EP-MNM; Aircraft Construction Number (also called L/N or S/N or F/N) 773; Aircraft Manufacture Date 13 Nov 1986; Aircraft Model A300B4-605R; Aircraft Operator MAHAN AIR (aircraft) [SDGT] Linked To: MAHAN AIR.

27. EP-MNN; Aircraft Construction Number (also called L/N or S/N or F/N) 701; Aircraft Manufacture Date 17 May 1993; Aircraft Model A300B4-605R; Aircraft Operator MAHAN AIR (aircraft) [SDGT] Linked To: MAHAN AIR.

28. EP-MNO; Aircraft Construction Number (also called L/N or S/N or F/N) 595; Aircraft Manufacture Date 30 Aug 1991; Aircraft Model A310-308; Aircraft Operator MAHAN AIR (aircraft) [SDGT] Linked To: MAHAN AIR.

29. EP-MNP; Aircraft Construction Number (also called L/N or S/N or F/N) 620; Aircraft Manufacture Date 08 Nov 1991; Aircraft Model A310-308; Aircraft Operator MAHAN AIR (aircraft) [SDGT] Linked To: MAHAN AIR.

30. EP-MNQ; Aircraft Construction Number (also called L/N or S/N or F/N) 553; Aircraft Manufacture Date 08 Dec 1989; Aircraft Model A300B4-603; Aircraft Operator MAHAN AIR (aircraft) [SDGT] Linked To: MAHAN AIR.

31. EP-MNR; Aircraft Construction Number (also called L/N or S/N or F/N) 411; Aircraft Manufacture Date 27 Mar 1987; Aircraft Model A300B4-603; Aircraft Operator MAHAN AIR (aircraft) [SDGT] Linked To: MAHAN AIR.

32. EP-MNS; Aircraft Construction Number (also called L/N or S/N or F/N) 414; Aircraft Manufacture Date 17 Apr 1987; Aircraft Model A300B4-603; alt. Aircraft Model MAHAN AIR (aircraft) [SDGT] Linked To: MAHAN AIR.

33. EP-MNT; Aircraft Construction Number (also called L/N or S/N or F/N) 546; Aircraft Manufacture Date 06 Nov 1989; Aircraft Model A300B4-603; Aircraft Operator MAHAN AIR (aircraft) [SDGT] Linked To: MAHAN AIR.

34. EP-MNU; Aircraft Construction Number (also called L/N or S/N or F/N) 608; Aircraft Manufacture Date 10 Apr 1991; Aircraft Model A300B4-605R; Aircraft Operator MAHAN AIR (aircraft) [SDGT] Linked To: MAHAN AIR.

35. EP-MNV; Aircraft Construction Number (also called L/N or S/N or F/N) 567; Aircraft Manufacture Date 03 Jan 1991; Aircraft Model A310-304; Aircraft Operator MAHAN AIR (aircraft) [SDGT] Linked To: MAHAN AIR.

36. EP-MNX; Aircraft Construction Number (also called L/N or S/N or F/N) 564; Aircraft Manufacture Date 22 Nov 1990; Aircraft Model A310-304; Aircraft Operator MAHAN AIR (aircraft) [SDGT] Linked To: MAHAN AIR.

37. EP-MOA; Aircraft Construction Number (also called L/N or S/N or F/N) 216; Aircraft Manufacture Date 18 Feb 1993; Aircraft Model B.146-300; Aircraft Operator MAHAN AIR; Aircraft Manufacturer's Serial Number (MSN) 3216 (aircraft) [SDGT] Linked To: MAHAN AIR.

38. EP-MOB; Aircraft Construction Number (also called L/N or S/N or F/N) 212; Aircraft Manufacture Date 31 Jul 1992; Aircraft Model B.146-300; Aircraft Operator MAHAN AIR; Aircraft Manufacturer's Serial Number (MSN) 3212 (aircraft) [SDGT] Linked To: MAHAN AIR.

39. EP-MOC; Aircraft Construction Number (also called L/N or S/N or F/N) 158; Aircraft Manufacture Date 18 May 1990; Aircraft Model B.146-300; Aircraft Operator MAHAN AIR; Aircraft Manufacturer's Serial Number (MSN) 3158 (aircraft) [SDGT] Linked To: MAHAN AIR.

40. EP-MOE; Aircraft Construction Number (also called L/N or S/N or F/N) 129; Aircraft Manufacture Date 24 May 1989; Aircraft Model B.146-300; Aircraft Operator MAHAN AIR; Aircraft Manufacturer's Serial Number (MSN) 3129 (aircraft) [SDGT] Linked To: MAHAN AIR.

41. EP-MOF; Aircraft Construction Number (also called L/N or S/N or F/N) 149; Aircraft Manufacture Date 19 Dec 1989; Aircraft Model B.146-300; Aircraft Operator MAHAN AIR; Aircraft Manufacturer's Serial Number (MSN) 3149 (aircraft) [SDGT] Linked To: MAHAN AIR.

42. EP-MOG; Aircraft Construction Number (also called L/N or S/N or F/N) 165; Aircraft Manufacture Date 12 May 1990; Aircraft Model B.146-300; Aircraft Operator MAHAN AIR; Aircraft Manufacturer's Serial Number (MSN) 3165 (aircraft) [SDGT] Linked To: MAHAN AIR.

43. EP-VIP; Aircraft Construction Number (also called L/N or S/N or F/N) 499; Aircraft Manufacture Date 20 Apr 1989; Aircraft Model A310-304; Aircraft Operator MAHAN AIR (aircraft) [SDGT] Linked To: MAHAN AIR.

44. EX-301; Aircraft Construction Number (also called L/N or S/N or F/N) 524; Aircraft Manufacture Date 27 Sep 1989; Aircraft Model A310-304; Aircraft Operator MAHAN AIR (aircraft) [SDGT] Linked To: MAHAN AIR.

45. EX-35011; Aircraft Construction Number (also called L/N or S/N or F/N) 838; Aircraft Manufacture Date 28 Aug 2002; Aircraft Model A300B4-622R; Aircraft Operator MAHAN AIR (aircraft) [SDGT] Linked To: MAHAN AIR.

46. F-OJHH; Aircraft Construction Number (also called L/N or S/N or F/N) 586; Aircraft Manufacture Date 29 Mar 1991; Aircraft Model A310-304; Aircraft Operator MAHAN AIR (aircraft) [SDGT] Linked To: MAHAN AIR.

47. F-OJHI; Aircraft Construction Number (also called L/N or S/N or F/N) 537; Aircraft Manufacture Date 19 Jan 1990; Aircraft Model A310-304; Aircraft Operator MAHAN AIR (aircraft) [SDGT] Linked To: MAHAN AIR.

Dated: September 21, 2012.
Adam J. Szubin,
Director, Office of Foreign Assets Control.

[FR Doc. 2013-03176 Filed 2-11-13; 8:45 am]

BILLING CODE 4810-AL-P